DEPARTMENT OF TRANSPORTATION

Federal Aviation Administration

14 CFR Part 39

[Docket No. FAA-2019-0526; Product Identifier 2019-NM-023-AD]

RIN 2120-AA64

Airworthiness Directives; Bombardier, Inc., Airplanes

AGENCY: Federal Aviation Administration (FAA), DOT.

ACTION: Notice of proposed rulemaking (NPRM).

SUMMARY: The FAA proposes to supersede Airworthiness Directive (AD) AD 2015-24-04, which applies to certain Bombardier, Inc., Model CL-600-2B19 (Regional Jet Series 100 & 440) airplanes, Model CL-600-2C10 (Regional Jet Series 700, 701, & 702) airplanes, Model CL-600-2D15 (Regional Jet Series 705) airplanes, Model CL-600-2D24 (Regional Jet Series 900) airplanes, and Model CL-600-2E25 (Regional Jet Series 1000) airplanes. AD 2015-24-04 requires repetitive inspections of the cage assembly for damaged or detached window louver panel assemblies (WLPAs) and blowout panels (BOPs), and corrective actions if necessary. Since AD 2015-24-04 was issued, the FAA has determined that new airworthiness limitations, as well as additional actions, are necessary to address the unsafe condition. This proposed AD would require one-time inspections of the WLPAs and BOPs, corrective actions if necessary, and a revision of the existing maintenance or inspection program, as applicable, to incorporate new airworthiness limitations, which would terminate the proposed inspection requirement. The FAA is proposing this AD to address the unsafe condition on these products.

DATES: The FAA must receive comments on this proposed AD by November 4, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building, Ground Floor, Room W12-140, 1200 New Jersey Avenue SE, Washington, DC 20590.

• Hand Delivery: Deliver to Mail address above between 9 a.m. and 5 p.m., Monday through Friday, except Federal holidays.

For service information identified in this NPRM, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; internet http://www.bombardier.com. You may view this referenced service information at the FAA, Transport Standards Branch, 2200 South 216th St., Des Moines, WA. For information on the availability of this material at the FAA, call 206-231-3195.

Examining the AD Docket

You may examine the AD docket on the internet at http://www.regulations.gov by searching for and locating Docket No. FAA-2019-0526; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Darren Gassetto, Aerospace Engineer, Mechanical Systems and Administrative Services Section, FAA, New York ACO Branch, 1600 Stewart Avenue, Suite 410, Westbury, NY 11590; telephone 516-228-7323; fax 516-794-5531; email 9-avs-nyaco-cos@faa.gov.

SUPPLEMENTARY INFORMATION:

Comments Invited

The FAA invites you to send any written relevant data, views, or arguments about this proposal. Send your comments to an address listed under the ADDRESSES section. Include “Docket No. FAA-2019-0526; Product Identifier 2019-NM-023-AD” at the beginning of your comments. The FAA specifically invites comments on the overall regulatory, economic, environmental, and energy aspects of this proposed AD. The FAA will consider all comments received by the closing date and may amend this proposed AD based on those comments.

The FAA will post all comments received, without change, to http://www.regulations.gov, including any personal information you provide. The FAA will also post a report summarizing each substantive verbal contact received about this proposed AD.

Discussion

The FAA issued AD 2015-24-04, Amendment 39-18336 (80 FR 74673, November 30, 2015) (“AD 2015-24-04”), for certain Bombardier, Inc., Model CL-600-2B19 (Regional Jet Series 100 & 440) airplanes, Model CL-600-2C10 (Regional Jet Series 700, 701, & 702) airplanes, Model CL-600-2D15 (Regional Jet Series 705) airplanes, Model CL-600-2D24 (Regional Jet Series 900) airplanes, and Model CL-600-2E25 (Regional Jet Series 1000) airplanes. AD 2015-24-04 requires repetitive inspections of the cage assembly, WLPAs, and BOPs, and corrective actions if necessary. AD 2015-24-04 resulted from reports of damaged decompression WLPAs, and detached BOPs. The FAA issued AD 2015-24-04 to address damaged or detached WLPAs and BOPs. A detached WLPA or BOP could delay smoke detection in the cargo compartment in the event of a fire, and could result in an uncontrolled fire in the cargo compartment.

Actions Since AD 2015-24-04 Was Issued

Transport Canada Civil Aviation (TCCA), which is the aviation authority for Canada, has issued Canadian AD CF-2015-28R2, dated February 4, 2019 (referred to after this as the Mandatory Continuing Airworthiness Information, or “the MCAI”), to correct an unsafe condition for certain Bombardier, Inc., Model CL-600-2B19 (Regional Jet Series 100 & 440) airplanes, Model CL-600-2C10 (Regional Jet Series 700, 701, & 702) airplanes, Model CL-600-2D15 (Regional Jet Series 705) airplanes, Model CL-600-2D24 (Regional Jet Series 900) airplanes, and Model CL-600-2E25 (Regional Jet Series 1000) airplanes. You may examine the MCAI in the AD docket on the internet at http://www.regulations.gov by searching for and locating Docket No. FAA-2019-0526.

This proposed AD was prompted by reports of damaged decompression window louver panel assemblies (WLPAs), and detached blowout panels (BOPs). We are proposing this AD to address damaged or detached WLPAs and BOPs, which could delay smoke detection in the cargo compartment in the event of a fire and result in an uncontrolled fire in the cargo compartment. See the MCAI for additional background information.

Explanation of Retained Requirements

This proposed AD supersedes AD 2015-24-04, and this proposed AD retains all of the requirements of AD 2015-24-04. Those requirements are restated with compliance time changes that are relieving and based on the compliance times referenced in an earlier revision of the Canadian AD (CF-2015-28R1) which, in turn, was revised by Canadian AD CF-2015-28R2. For clarity and to avoid unnecessary differences between this proposed AD and the MCAI, we have not separated the requirements of this proposed AD into restated requirements and new requirements as is our usual practice.

Related Service Information Under 1 CFR Part 51

Bombardier has issued the following service information:

• Bombardier Service Bulletin 601R-25-201, Revision C, dated May 11, 2017.

• Bombardier Service Bulletin 670BA-25-100, Revision C, dated May 11, 2017. This service information describes procedures for repetitive detailed inspections for damage of the cage assembly, WLPAs, and BOPs, and repair or replacement of damaged parts. These documents are unique since they apply to different airplane models.

Bombardier has also issued the following service information:

• Bombardier CRJ Series Regional Jet Maintenance Requirements Manual (MRM), CSP A-053, Part 2, Appendix A, Certification Maintenance Requirements (CMR), Task C26-25-115-01, as specified in CRJ Series Regional Jet Temporary Revision (TR) 2A-69, dated August 30, 2018.

• Bombardier CRJ Series Regional Jet MRM, CSP B-053, Part 1, and Maintenance Review Board Report (MRBR) Task 255000-208, as specified in TR MRB-0079, dated May 29, 2017.

This service information describes an airworthiness limitation task for a detailed inspection of the aft cargo compartment WLPAs and BOPs. These TRs are unique since they apply to different airplane models.

This service information is reasonably available because the interested parties have access to it through their normal course of business or by the means identified in the ADDRESSES section.

FAA's Determination

This product has been approved by the aviation authority of another country, and is approved for operation in the United States. Pursuant to a bilateral agreement with the State of Design Authority, the FAA has been notified of the unsafe condition described in the MCAI and service information referenced above. The FAA proposing this AD because the agency evaluated all the relevant information and determined the unsafe condition described previously is likely to exist or develop on other products of the same type design.

Proposed Requirements of This NPRM

This proposed AD would require accomplishing the actions specified in the service information described previously.

Costs of Compliance

The FAA estimates that this proposed AD affects 1,008 airplanes of U.S. registry. The FAA estimates the following costs to comply with this proposed AD:

Estimated Costs for Required Actions *
Action | Labor cost | Parts cost | Cost per product | Cost on U.S. operators
Retained Inspections from AD 2015-24-04 | 2 work-hours × $85 per hour = $170 | $0 | $170 | $171,360
* Table does not include estimated costs for revising the maintenance or inspection program.

The FAA has determined that revising the maintenance or inspection program takes an average of 90 work-hours per operator, although the agency recognizes that this number may vary from operator to operator. In the past, the FAA has estimated that this action takes 1 work-hour per airplane. Since operators incorporate maintenance or inspection program changes for their affected fleet(s), the FAA has determined that a per-operator estimate is more accurate than a per-airplane estimate. Therefore, the FAA estimates the total cost per operator to be $7,650 (90 work-hours × $85 per work-hour).

The FAA has received no definitive data that would enable the agency to provide cost estimates for the on-condition actions specified in this proposed AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Will not affect intrastate aviation in Alaska, and

3. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-24-04, Amendment 39-18336 (80 FR 74673, November 30, 2015), and adding the following new AD:

Bombardier, Inc.: Docket No. FAA-2019-0526; Product Identifier 2019-NM-023-AD.

(a) Comments Due Date

The FAA must receive comments by November 4, 2019.

(b) Affected ADs

This AD replaces AD 2015-24-04, Amendment 39-18336 (80 FR 74673, November 30, 2015) (“AD 2015-24-04”).

(c) Applicability

This AD applies to the Bombardier, Inc., airplanes, certificated in any category, identified in paragraphs (c)(1) through (4) of this AD.

(1) Model CL-600-2B19 (Regional Jet Series 100 & 440) airplanes, serial numbers 7003 and subsequent.

(2) Model CL-600-2C10 (Regional Jet Series 700, 701, & 702) airplanes, serial numbers 10002 and subsequent.

(3) Model CL-600-2D15 (Regional Jet Series 705) airplanes and Model CL-600-2D24 (Regional Jet Series 900) airplanes, serial numbers 15001 and subsequent.

(4) Model CL-600-2E25 (Regional Jet Series 1000) airplanes, serial numbers 19001 and subsequent.

(d) Subject

Air Transport Association (ATA) of America Code 25, Equipment/Furnishings.

(e) Reason

This AD was prompted by reports of damaged decompression window louver panel assemblies (WLPAs), and detached blowout panels (BOPs). The FAA is issuing this AD to address damaged or detached WLPAs and BOPs. A detached WLPA or BOP could delay smoke detection in the cargo compartment in the event of a fire, and could result in an uncontrolled fire in the cargo compartment.

(f) Compliance

Comply with this AD within the compliance times specified, unless already done.

(g) Inspections, Corrective Action, and Terminating Action for Model CL-600-2B19 Airplanes

(1) At the applicable time specified in paragraph (g)(1)(i) or (ii) of this AD: Do detailed inspections for damaged or detached WLPAs, and do all applicable corrective actions before further flight, in accordance with the Accomplishment Instructions of Bombardier Service Bulletin 601R-25-201, Revision C, dated May 11, 2017.

(i) For airplanes with the accumulation of 780 total flight hours or more as of December 15, 2015 (the effective date of AD 2015-24-04): Inspect within 100 flight hours after December 15, 2015.

(ii) For airplanes that have accumulated less than 780 total flight hours as of December 15, 2015 (the effective date of AD 2015-24-04): Inspect before accumulating 880 total flight hours after December 15, 2015.

(2) Within 30 days after the effective date of this AD, revise the existing maintenance or inspection program, as applicable, to incorporate the information specified in Task C26-25-115-01, “Detailed Inspection of the Window Louver Panel Assembly (WLPA) in Aft Cabin/Cargo Compartment Bulkhead,” provided in Bombardier CRJ Series Regional Jet Temporary Revision (TR) 2A-69, dated August 30, 2018, to Appendix A, Certification Maintenance Requirements (CMR), of Part 2 of the Bombardier CL-600-2B19 Maintenance Requirements Manual (MRM). The initial compliance time for accomplishing the task is within 880 flight hours from the last inspection performed as specified in Bombardier Service Bulletin 601R-25-201, Revision C, dated May 11, 2017. Accomplishing the actions required by this paragraph terminates the inspection requirement in paragraph (g)(1) of this AD.

(h) Inspections, Corrective Action, and Terminating Action for Model CL-600-2C10, CL-600-2D15, CL-600-2D24, and CL-600-2E25 Airplanes

(1) At the applicable time specified in paragraph (h)(1)(i) or (ii) of this AD: Do detailed inspections for damaged or detached WLPAs and BOPs, and do all applicable corrective actions before further flight, in accordance with the Accomplishment Instructions of Bombardier Service Bulletin 670BA-25-100, Revision C, dated May 11, 2017.

(i) For airplanes with the accumulation of 780 total flight hours or more as of December 15, 2015 (the effective date of AD 2015-24-04): Inspect within 100 flight hours after December 15, 2015.

(ii) For airplanes that have accumulated less than 780 total flight hours as of December 15, 2015 (the effective date of AD 2015-24-04): Inspect before accumulating 880 total flight hours after December 15, 2015.

(2) Within 30 days after the effective date of this AD, revise the existing maintenance or inspection program, as applicable, to incorporate the information specified in Task 255000-208, “Detailed Inspection of the Aft Cargo Compartment Window-Louver Panel Assembly and Blowout Panels Along with Their Respective Cage Assemblies,” as specified in Bombardier CRJ Regional Jet TR MRB-0079, dated May 29, 2017, to Part 1 of the Bombardier CRJ Series Regional Jet MRM, CSP B-053. The initial compliance time for accomplishing the task is within 880 flight hours from the last inspection performed in accordance with Bombardier Service Bulletin 670BA-25-100, Revision C, dated May 11, 2017. Accomplishing the actions required by this paragraph terminates the inspection requirement in paragraph (h)(1) of this AD.

(i) Credit for Previous Actions

(1) This paragraph provides credit for actions required by paragraph (g)(1) of this AD, if those actions were performed before the effective date of this AD using the service information identified in paragraphs (i)(1)(i) through (iii) of this AD.

(i) Bombardier Service Bulletin 601R-25-201, dated July 21, 2015.

(ii) Bombardier Service Bulletin 601R-25-201, Revision A, dated October 21, 2015.

(iii) Bombardier Service Bulletin 601R-25-201, Revision B, dated February 2, 2016.

(2) This paragraph provides credit for actions required by paragraph (h)(1) of this AD, if those actions were performed before the effective date of this AD using the service information identified in paragraphs (i)(2)(i) through (iii) of this AD.

(i) Bombardier Service Bulletin 670BA-25-100, dated July 21, 2015.

(ii) Bombardier Service Bulletin 670BA-25-100, Revision A, dated October 21, 2015.

(iii) Bombardier Service Bulletin 670BA-25-100, Revision B, dated February 2, 2016.

(j) Other FAA AD Provisions

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531.

(2) Contacting the Manufacturer: For any requirement in this AD to obtain corrective actions from a manufacturer, the action must be accomplished using a method approved by the Manager, New York ACO Branch, FAA; or Transport Canada Civil Aviation (TCCA); or Bombardier, Inc.'s TCCA Design Approval Organization (DAO). If approved by the DAO, the approval must include the DAO-authorized signature.

(k) Related Information

(1) Refer to Mandatory Continuing Airworthiness Information (MCAI) Canadian AD CF-2015-28R2, dated February 4, 2019; for related information. This MCAI may be found in the AD docket on the internet at http://www.regulations.gov by searching for and locating Docket No. FAA-2019-0526.

(2) For more information about this AD, contact Darren Gassetto, Aerospace Engineer, Mechanical Systems and Administrative Services Section, FAA, New York ACO Branch, 1600 Stewart Avenue, Suite 410, Westbury, NY 11590; telephone 516-228-7323; fax 516-794-5531; email 9-avs-nyaco-cos@faa.gov.

(3) For service information identified in this AD, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; internet http://www.bombardier.com. You may view this service information at the FAA, Transport Standards Branch, 2200 South 216th St., Des Moines, WA. For information on the availability of this material at the FAA, call 206-231-3195.

Issued in Des Moines, Washington, on September 16, 2019.
Suzanne Masterson,
Acting Director, System Oversight Division, Aircraft Certification Service.

[FR Doc. 2019-20333 Filed 9-19-19; 8:45 am]

BILLING CODE 4910-13-P